ENVIRONMENTAL PROTECTION AGENCY

[ER-FRL-8986-8]

Environmental Impact Statements; Notice of Availability

Responsible Agency: Office of Federal Activities, General Information, (202) 564-1399 or http://www.epa.gov/compliance/nepa/.

Weekly Receipt of Environmental Impact Statements

Filed 12/14/2009 Through 12/18/2009

Pursuant to 40 CFR 1506.9

Notice: In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, after March 31, 2010, EPA will discontinue the publication of this notice of availability of EPA comments in the Federal Register.

EIS No. 20090438, Draft EIS, NPS, NY, Roosevelt-Vanderbilt National Historic Sites, General Management Plan, Implementation, Hyde Park, NY, Comment Period Ends: 02/22/2010, Contact: Marjorie Smith, 339-223-0131.

EIS No. 20090439, Final EIS, FHWA, ME, Aroostook County Transport Study, Route I-161 Connector, To Identify Transportation Corridors that will Improve Mobility and Efficiency within Northeastern Aroostook County and other portions of the U.S. and Canada, U.S. Army COE Section 404 Permit, Endangered Species Act, NPDES and Section 10 River and Harbors Act, Caribou, Aroostook County, ME, Wait Period Ends: 01/25/2010, Contact: Mark Hasselmann, 207-622-8355.

EIS No. 20090440, Final EIS, USFS, CO, Vail Ski Area's 2007 Improvement Project, Proposed On-Mountain Restaurant from the top of Vail Mountain to Mid Vail, Special-Use-Permit, Eagle/Holy Cross Ranger District, White River National Forest, Eagle County, CO, Wait Period Ends: 01/25/2010, Contact: Don Dressler, 970-945-3212.

EIS No. 20090441, Final Supplement, FHWA, TN, Shelby Avenue/Demonbreun Street (Gateway Boulevard Corridor, from I-65 North [I-24 West] to I-40 West in Downtown Nashville, To Address Transportation needs in the Study Area. Davidson County, TN, Wait Period Ends: 01/25/2010, Contact: Charles J. O'Neill, 615-781-5770.

EIS No. 20090442, Draft EIS, USACE, 00, Sabine-Neches Waterway Channel Improvement Project, Proposed Ocean Dredged Material Disposal Site Designation, Southeast Texas and Southwest Louisiana, Comment Period Ends: 02/10/2010, Contact: Janelle Stokes, 409-766-3039.

EIS No. 20090443, Final EIS, FHWA, DC, ADOPTION—Department of Homeland Security Headquarters at the St. Elizabeths West Campus, To Consolidate Federal Office Space on a Secure Site, Washington, DC, Contact: Jack VanDop, 703-404-6282. The U.S. Department of Transportation's, Federal Highway Administration (DOT/FHWA) has ADOPTED the U.S. General Services Administration FEIS #20080452, filed on 10/31/2008. DOT/FHWA was a Cooperating Agency for the above project. Recirculation of the FEIS is not necessary under 40 CFR 1506.3(c).

EIS No. 20090444, Final EIS, USA, NM, White Sands Missile Range (WSMR), Development and Implementation of Range-Wide Mission and Major Capabilities, NM, Wait Period Ends: 01/25/2010, Contact: Jennifer Shore, 703-602-4238.

EIS No. 20090445, Draft EIS, USFS, ID, Boise National Forest Project, Proposed Amendments to the Land and Resource Management Plan, Wildlife Conservation Strategy (WCS) Phase 1: Forested Biological Community, Located within Portions of Ada, Boise, Elmore, Gem, and Valley Counties, ID, Comment Period Ends: 03/24/2010, Contact: Cyd Weiland, 208-373-4135.

EIS No. 20090446, Final EIS, USFS, VT, Jarbidge Ranger District Rangeland Management Project, Proposed Reauthorizing Grazing on 21 Existing Grazing Allotments, Humboldt Toiyabe National Forest, Elko County, NV, Wait Period Ends: 12/25/2009, Contact: Vernon Keller, 775-355-5356.

EIS No. 20090447, Final EIS, USACE, AL, Foley Land Cut Portion of the Gulf Intracoastal Waterway, Proposed Construction of Residential, Commercial and Marine Development, Gulf Shores and Orange Beach, Baldwin County, AL, Wait Period Ends: 01/25/2010, Contact: Linda Brown, 251-694-3786.

Amended Notices

EIS No. 20090424, Draft EIS, USN, AK, Gulf of Alaska Navy Training Activities, Proposal to Support and Conduct Current, Emerging, and Future Training Activities, Implementation, Gulf of Alaska, AK, Comment Period Ends: 01/25/2010, Contact: Amy Burt, 360-396-0924. Revision to FR Notice Published 12/11/2009: Correction to Contact Telephone Number.

EIS No. 20090433, Final EIS, USFS, CA, Lassen National Forest, Motorized Travel Management Plan, Implementation, Butte, Lassen, Modoc, Plumas, Shasta, Siskiyou, Tehama Counties, CA, Wait Period Ends: 01/19/2010, Contact: Christopher O'Brien, 530-252-6698. Revision to FR Notice Published 12/18/2009: Correction to Contact Telephone Number.

EIS No. 20090435, Draft EIS, APHIS, 00, Glyphsate-Tolerant Alfalfa Events J101 and J163: Request for No regulated Status, Implementation, United States, Comment Period Ends: 02/16/2010, Contact: Cindy Eck, 301-734-0667. Revision to FR Notice Published 12/18/2009: Correction to Contact Telephone Number.

Dated: December 21, 2009.
Pearl E. Young,
NEPA Compliance Division, Office of Federal Activities.

[FR Doc. E9-30588 Filed 12-23-09; 8:45 am]

BILLING CODE 6560-50-P